DEPARTMENT OF JUSTICE

Drug Enforcement Administration

[AAG/A Order No. 009-2006]

Privacy Act of 1974; System of Records

AGENCY: Drug Enforcement Administration, DOJ.

ACTION: New system of records.

SUMMARY: Pursuant to the provisions of the Privacy Act of 1974, 5 U.S.C. 552a, notice is given that the Department of Justice (DOJ) proposes to establish a new Drug Enforcement Administration (DEA) system of records entitled, “El Paso Intelligence Center (EPIC) Seizure System (ESS)” DOJ/DEA-022. ESS incorporates two previous systems of records, the Clandestine Laboratory Seizure System notice, Justice/DEA-002, last published in the Federal Register January 27, 2003 (68 FR 3894), and the Automated Intelligence Records System (Pathfinder), last published in the Federal Register November 26, 1990 (55 FR 49182), for the purpose of combining both previously existing systems into a single collection of records.

DATES: In accordance with the requirements of 5 U.S.C. 552a(e)(4) and (11), the public is given a 30 day period in which to comment. The Office of Management and Budget (OMB), which has oversight responsibility under the Act, has 40 days in which to conclude its review of the system. Therefore please submit any comments by August 7, 2006.

ADDRESSES: The public, OMB and the Congress are invited to submit any comments to Mary E. Cahill, Management and Planning Staff, Justice Management Division, Department of Justice, Washington, DC 20530 (Room 1400 National Place Building), facsimile number 202-307-1853.

FOR FUTHER INFORMATION CONTACT: Mary E. Cahill 202-307-1823.

SUPPLEMENTARY INFORMATION: This system of records is established in connection with the EPIC Open Connectivity Project that implements as a major component of this system the EPIC Portal. The EPIC Portal is designed to allow vetted users electronic access to data maintained in this system that was previously available to authorized users under the previously approved system notices for the Clandestine Laboratory Seizure System notice (Justice/DEA-002) and the Automated Intelligence Records System notice (Justice/DEA-INS-111). Under the previous protocol, authorized law enforcement personnel contacted EPIC directly with their requests for information. EPIC provided information from available databases to the requester. The use of the EPIC Portal under this system will allow authorized law enforcement personnel to query the ESS by means of a secure internet connection. A principal purpose of ESS is to ensure that law enforcement entities can more effectively investigate, disrupt and deter criminal activities. ESS furthers this purpose by providing a single point of entry to vetted users to submit a request for information from relevant data sources available to the ESS. Results obtained through a search of ESS databases are provided in near real time to the user. Both previously existing systems will continue to operate in parallel with this system for as long as is necessary to migrate existing data and users. At a date to be determined after the successful migration of data and users into this new system, the previously existing systems will be cancelled.

In accordance with 5 U.S.C. 552a(r), the Department has provided a report to OMB and the Congress.

Dated: June 19, 2006.
Lee J. Lofthus,
Acting Assistant Attorney General for Administration.

DEPARTMENT OF JUSTICE/DEA-022

System Name:

EPIC Seizure System (ESS).

System Classification:

Sensitive But Unclassified.

System Location:

Department of Defense, Defense Information Systems Agency (DISA), Booz Allen Hamilton (contractor), 5201 Leesburg Pike, Suite 400, Falls Church, VA 22041, and Department of Justice, Drug Enforcement Administration, El Paso Intelligence Center, 11339 SSG Sims Street, El Paso, TX 79908-8098.

Categories of Individuals Covered by the System:

1. Categories consist of individuals identified or referenced in the course of investigations relating to:

(a) The illicit manufacture, distribution, sale or possession of, or trafficking in controlled substances;

(b) The illicit manufacture, distribution, sale or possession of, or trafficking in or alteration of identification documents, merchant mariner licenses and/or merchant mariner documents;

(c) Reports of lost, stolen or fraudulent use of identification documents;

(d) Businesses, vessels, and aircraft possibly associated with terrorism;

(e) Crewman desertions or stowaways;

(f) Movement of drugs, weapons, aliens or other contraband using vessels, commercial and/or non-commercial aircraft, or vehicles;

(g) Tactical boarding of vessels suspected of smuggling drugs, weapons, aliens, or other contraband into the United States.

2. Categories also consist of individuals identified or referenced in requests for information:

(a) In support of U.S. Coast Guard and other law enforcement personnel conducting routine boardings;

(b) On crew lists of in-bound vessels that are 96 hours in advance of arrival to the United States;

(c) On personnel lists for individuals associated with work on or around Government or Government-contracted vessels;

(d) On personnel lists for individuals working in or around U.S. waterways, piers, and bridges;

(e) On pilots, passengers, owners, businesses and aircraft in support of Customs and Border Protection granting permission for aircraft to fly over the nearest Port of Entry;

(f) On Civil Air Patrol pilots supporting Drug Enforcement Administration or Immigration and Customs Enforcement operations;

(g) On reported stolen aircraft.

Categories of Records in the System:

Records consist of:

(1) Personal identification and location data which may include name (including aliases and similar sounding names), occupation(s), race, sex, date and place of birth, height, weight, hair color, eye color, citizenship, nationality/ethnicity, alien status, addresses, and other miscellaneous identifying information, including, for example, telephone, passport, drivers license, vehicle registration, and Social Security numbers;

(2) Multi-source drug intelligence data;

(3) Counter-drug enforcement information, including identification, location, arrest, and prosecution of persons involved in the illicit trade or trafficking, and other activities and civil proceedings related to such enforcement activities;

(4) Information related to organizations involved in the illicit trade in controlled substances either in the United States or internationally;

(5) Reports of arrests;

(6) Information on stolen aircraft;

(7) Public and other information including personal identification and location data which may include name, date and place of birth, social security numbers, addresses and other miscellaneous identifying information, including, for example, telephone numbers, drivers license, and vehicle registration obtained from commercial databases;

(8) Public and other information obtained from Federal warrants issued by United States Marshals Service;

(9) Vessel and aircraft data;

(10) Information relating to terrorist incidents;

(11) Other information involving the illicit possession, manufacture, sale, purchase, and transport of controlled substances; and

(12) Information involving the illicit manufacture, distribution, sale or possession of, trafficking in or alteration of identification documents, forged merchant mariner licenses and/or merchant mariner documents.

Authority for Maintenance of the System:

The Comprehensive Drug Abuse Prevention and Control Act of 1970 (83 Stat. 1236), Reorganization Plan No. 2 of 1973, the Omnibus Crime Control and Safe Streets Act, (Pub. L. 90-351, as amended), and the Single Convention on Narcotic Drugs (18 U.S.C. 1407). Additional authority is derived from Treaties, Statutes, Executive Orders, Presidential Proclamations, and Attorney General Directives.

Purpose of the System:

Records in this system are used to provide investigative and public health and safety information for the Drug Enforcement Administration, and other law enforcement agencies, in the discharge of their law enforcement duties and responsibilities.

Routine Uses of Records Maintained in the System, Including Categories of Users and the Purposes of Such Uses:

Pursuant to the Privacy Act, 5 U.S.C. 552a(b)(3), relevant records or any relevant facts derived therefrom may be disclosed:

(a) To Federal, state, local, tribal and foreign law enforcement agencies to facilitate the investigation and prosecution of illegal drug trafficking activities.

(b) To law enforcement individuals and organizations in the course of investigations where necessary to elicit information pertinent to counter-drug, counter-terrorism, weapons, alien, and drug-money investigations.

(c) To contractors, grantees, experts, consultants, students, and others performing or working on a contract, service, grant, cooperative agreement, or other assignment for the Federal Government, when necessary to accomplish an agency function related to this system of records.

(d) To a former employee of the Department for purposes of: Responding to an official inquiry by a Federal, state, or local government entity or professional licensing authority in accordance with applicable regulations; or facilitating communications with a former employee that may be necessary for personnel-related or other official purposes where the Department requires information and/or consultation assistance from the former employee regarding a matter within that person's former area of responsibility.

(e) To the news media and the public, complying with 28 CFR 50.2 when applicable, unless it is determined that release of the specific information in the context of a particular case would constitute an unwarranted invasion of personal privacy;

(f) To any criminal, civil, or regulatory law enforcement authority (whether Federal, state, local, territorial, tribal, or foreign) where the information is relevant to the recipient entity's law enforcement responsibilities.

(g) To a Member of Congress or staff acting upon the Member's behalf when the Member or staff requests the information on behalf of, and at the request of, the individual who is the subject of the record.

(h) To the National Archives and Records Administration (NARA) for purposes of management inspections conducted under the authority of 44 U.S.C. 2904 and 2906.

(i) In an appropriate proceeding before a court or administrative or adjudicative body when records are determined by the Department of Justice to be arguably relevant to the proceeding; or in an appropriate proceeding before an administrative or adjudicative body when the adjudicator determines the records to be relevant to the proceeding.

(j) To agencies of the U.S. Intelligence Community.

Disclosure to Consumer Reporting Agencies:

None.

Policies and Practices for Storing, Retrieving, Accessing, Retaining, and Disposing of Records in the System:

Storage:

Data is stored in electronic media via a configuration of personal computer, client/server, and mainframe systems architecture. Computerized records are maintained on hard disk, floppy diskettes, compact discs, magnetic tape, and/or optical disks. The records are stored on computer both at the contractor site and at the El Paso Intelligence Center, El Paso, Texas. Paper files are stored as follows: (1) In a secure file room with controlled access; (2) in locked file cabinets; and/or (3) in other appropriate GSA approved security containers.

Retrievability:

Records may be retrieved by reference to an individual's name or personal identifier.

Safeguards:

Both electronic and paper records are safeguarded in accordance with DOJ rules and policy governing automated systems security and access. These safeguards include the maintenance of technical equipment in restricted areas, and the required use of individual passwords and user identification codes to access the system. The system is protected by both physical security methods and dissemination and access controls. Protection of the automated information system is provided by physical, procedural and electronic means.

Retention and Disposal:

Records in this system will be retained and disposed of in accordance with records schedules approved by the National Archives and Records Administration (NARA) for the constituent systems of records, Justice/DEA-002 and Justice/DEA-INS-111. A separate schedule for the retention and disposal of records for Justice/DEA-022 will be submitted to NARA for approval.

System Manager and Address:

Director, El Paso Intelligence Center, 11339 SSG Sims Street, El Paso, Texas 79912-8098.

Notification Procedures:

Inquiries should be addressed to Freedom of Information and Records Section, Drug Enforcement Administration, Washington, DC 20537.

Record Access Procedures:

A request for access to a record from this system shall be made in accordance with 28 CFR part 16 to the Freedom of Information Act (FOIA)/Privacy Act (PA) Section, Headquarters, Drug Enforcement Administration, Washington, DC 20537 or to the System Manager, with the envelope and letter clearly marked ‘Privacy Access Request.’ The request should include a general description of the records sought and must include the requester's full name, current address, and date and place of birth. The request must be signed and either notarized or submitted under penalty of perjury and dated. Some information may be exempt from access to certain provisions as described in the section entitled ‘Exemptions Claimed for the System.’ An individual who is the subject of a record in this system may access those records that are not exempt from disclosure. A determination whether a record may be accessed will be made at the time a request is received.

Contesting Record Procedures:

Individuals desiring to contest or amend information maintained in the system should direct their request according to the Record Access Procedures listed above, stating clearly and concisely what information is being contested, the reasons for contesting it, and the proposed amendment to the information sought. Some information is not subject to amendment. Some information may be exempt from contesting record procedures as described in the section entitled ‘Exemptions Claimed for the System.’ An individual who is the subject of a record in this system may seek amendment of those records that are not exempt. A determination whether a record may be amended will be made at the time a request is received.

Record Source Categories:

(1) DEA intelligence and investigative records; (2) reports, investigative and intelligence reports from other participating and associated Federal, state, local, territorial, tribal, and foreign member agencies; (3) records and reports of foreign law enforcement and regulatory agencies; and (4) records from commercial databases.

Exemptions Claimed for the System:

The Attorney General has exempted this system from subsections (c)(3) and (4); (d)(1), (2), (3) and (4); (e)(1), (2) and (3), (e)(5) and (e)(8); and (g), of the Privacy Act pursuant to 5 U.S.C. 552a(j) and (k). The exemptions will be applied only to the extent that information in a record is subject to exemption pursuant to 5 U.S.C. 552a(j) and (k). A determination as to exemption shall be made at the time a request for access or amendment is received. Proposed rules have been promulgated in accordance with the requirements of 5 U.S.C. 553(b), (c) and (e) and are published in today's Federal Register.

[FR Doc. E6-9977 Filed 6-23-06; 8:45 am]

BILLING CODE 4410-09-P